SECURITIES AND EXCHANGE COMMISSION

[File No. 500-1]

In the Matter of Host America Corporation; Order of Suspension of Trading

It appears to the Securities and Exchange Commission that there is a lack of current and accurate information concerning the securities of Host America Corporation (“Host America”), because of questions regarding the accuracy of Host America's assertions about dealings with Wal-Mart Stores, Inc., in its press release of July 12, 2005 (also incorporated as an exhibit to a Form 8-K filing with the Commission on the same date).

The Commission is of the opinion that the public interest and the protection of investors require a suspension of trading in the securities of the above-listed company.

Therefore, it is ordered, pursuant to Section 12(k) of the Securities Exchange Act of 1934, that trading in the securities of the above-listed company is suspended for the period from 9:30 a.m. EDT, July 22, 2005 through 11:59 p.m. EDT, on August 4, 2005.

By the Commission.
Jonathan G. Katz,
Secretary.

[FR Doc. 05-14802 Filed 7-22-05; 11:36 am]

BILLING CODE 8010-01-P